LEGAL SERVICES CORPORATION

Notice of Intent to Award—Grant Awards for the Provision of Civil Legal Services to Eligible Low-Income Clients Beginning January 1, 2006

AGENCY: Legal Services Corporation.

ACTION: Announcement of intention to make FY 2006 Competitive Grant Awards.

SUMMARY: The Legal Services Corporation (LSC) hereby announces its intention to award grants and contracts to provide economical and effective delivery of high quality civil legal services to eligible low-income clients, beginning January 1, 2006.

DATES: All comments and recommendations must be received on or before the close of business on November 7, 2005.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on April 11, 2005 (70 FR 18430), and Grant Renewal applications due on August 8, 2005, LSC intends to award funds to the following organizations to provide civil legal services in the indicated service areas. Amounts are subject to change.

Service area | Applicant name | Grant amount
Alabama:
AL-4 | Legal Services Alabama, Inc | $5,849,856
MAL | Texas RioGrande Legal Aid | 29,959
Alaska:
AK-1 | Alaska Legal Services Corporation | 677,222
NAK-1 | Alaska Legal Services Corporation | 493,519
American Samoa:
AS-1 | Uunai Legal Services Clinic | 292,644
Arizona:
AZ-3 | Community Legal Services Inc | 3,547,176
MAZ | Community Legal Services Inc | 135,192
AZ-5 | Southern Arizona Legal Aid Inc | 1,710,831
NAZ-6 | Southern Arizona Legal Aid Inc | 581,670
AZ-2 | DNA—Peoples Legal Services, Inc | 491,435
NAZ-5 | DNA—Peoples Legal Services, Inc | 2,381,249
Arkansas:
AR-6 | Legal Aid of Arkansas, Inc | 1,362,471
AR-7 | Center for Arkansas Legal Services | 2,033,805
MAR | Texas RioGrande Legal Aid | 71,971
California:
CA-1 | California Indian Legal Services Inc | 30,936
NCA-1 | California Indian Legal Services Inc | 806,224
CA-2 | Greater Bakersfield Legal Assistance | 859,454
CA-26 | Central California Legal Services | 2,688,892
CA-29 | Legal Aid Foundation of Los Angeles | 7,426,262
CA-30 | Neigh. LS of Los Angeles County | 4,386,626
CA-12 | Inland Counties Legal Services, Inc | 3,818,738
CA-27 | Legal Services of Northern CA, Inc | 3,322,552
CA-14 | Legal Aid Society of San Diego, Inc | 2,670,388
CA-31 | California Rural Legal Assistance, Inc | 4,383,712
MCA | California Rural Legal Assistance, Inc | 2,403,727
CA-28 | Bay Area Legal Aid | 3,916,912
CA-19 | Legal Aid Society of Orange County, Inc | 3,729,812
Colorado:
CO-6 | Colorado Legal Services | 3,140,767
MCO | Colorado Legal Services | 135,234
NCO-1 | Colorado Legal Services | 87,637
Connecticut:
CT-1 | Statewide Legal Services of Connecticut | 2,170,622
NCT-1 | Pine Tree Legal Assistance, Inc | 14,287
Delaware:
DE-1 | Legal Services Corporation of Delaware, Inc | 566,144
MDE | Legal Aid Bureau, Inc | 22,606
District of Columbia:
DC-1 | Neighborhood Legal Services Program of D.C. | 922,278
Florida:
FL-15 | Community Legal Services of Mid-Florida | 2,822,307
FL-17 | Florida Rural Legal Services Inc | 2,521,122
MFL | Florida Rural Legal Services Inc | 817,779
FL-5 | Legal Services of Greater Miami Inc | 3,232,776
FL-13 | Legal Services of North Florida, Inc | 1,327,441
FL-16 | Bay Area Legal Services, Inc | 2,394,740
FL-14 | Three Rivers Legal Services, Inc | 1,635,010
FL-18 | Coast to Coast Legal Aid of South Florida | 1,695,106
Georgia:
GA-1 | Atlanta Legal Aid Society, Inc | 2,358,077
GA-2 | Georgia Legal Services Program | 5,992,182
MGA | Georgia Legal Services Program | 357,002
Guam:
GU-1 | Guam Legal Services Corporation | 293,040
Hawaii:
NHI-1 | Native Hawaiian Legal Corporation | $209,035
HI-1 | Legal Aid Society of Hawaii | 1,204,344
MHI | Legal Aid Society of Hawaii | 62,749
Idaho:
ID-1 | Idaho Legal Aid Services, Inc | 1,082,519
MID | Idaho Legal Aid Services, Inc | 170,196
NID-1 | Idaho Legal Aid Services, Inc | 59,286
Illinois:
IL-6 | Legal Assistance of Metropolitan Chicago | 5,917,836
MIL | Legal Assistance of Metropolitan Chicago | 227,302
IL-3 | Land of Lincoln Legal Assist. Foundation | 2,330,330
IL-7 | Prairie State Legal Services, Inc. | 2,517,012
Indiana:
IN-5 | Indiana Legal Services, Inc | 4,608,798
MIN | Indiana Legal Services, Inc | 103,531
Iowa:
IA-3 | Iowa Legal Aid | 2,219,220
MIA | Iowa Legal Aid | 34,356
Kansas:
KS-1 | Kansas Legal Services, Inc | 2,160,776
MKS | Kansas Legal Services, Inc | 10,823
Kentucky:
KY-10 | Legal Aid of The Blue Grass | 1,177,743
KY-2 | Legal Aid Society, Inc | 1,095,699
KY-5 | Appalachian Res. and Defense Fund of KY | 1,896,241
KY-9 | Kentucky Legal Aid | 1,136,396
MKY | Texas RioGrande Legal Aid | 38,753
Louisiana:
LA-1 | Capital Area Legal Services Corporation | 1,319,610
LA-10 | Acadian Legal Service Corporation | 1,883,695
LA-11 | Legal Services of North Louisiana, Inc | 1,770,839
LA-12 | South East Louisiana Legal Services Corp | 2,369,992
MLA | Texas RioGrande Legal Aid | 25,074
Maine:
ME-1 | Pine Tree Legal Assistance, Inc | 1,075,916
MMX-1 | Pine Tree Legal Assistance, Inc | 113,722
NME-1 | Pine Tree Legal Assistance, Inc | 58,818
Maryland:
MD-1 | Legal Aid Bureau, Inc | 3,612,021
MMD | Legal Aid Bureau, Inc | 82,786
Massachusetts:
MA-11 | Volunteer Lawyers Project Boston Bar | 1,854,184
MA-12 | New Center for Legal Advocacy | 831,112
MA-4 | Merrimack Valley Legal Services, Inc | 755,712
MA-10 | Massachusetts Justice Project | 1,373,555
Michigan:
MI-12 | Legal Services of South Central Michigan | 1,198,354
MMI | Legal Services of South Central Michigan | 548,103
MI-14 | Legal Services of Eastern Michigan | 1,310,087
MI-9 | Legal Services of Northern Michigan | 671,990
MI-15 | Western Michigan Legal Services | 1,544,754
MI-13 | Legal Aid and Defender of Detroit | 3,613,379
NMI-1 | Michigan Indian Legal Services Inc | 150,220
Micronesia:
MP-1 | Micronesia Legal Services | 1,501,899
Minnesota:
MN-1 | Legal Aid Services of North East Minnesota | 397,743
MN-6 | Central Minnesota Legal Services Inc | 1,223,858
MN-4 | Legal Services of North West Minnesota | 362,964
MMN | Southern Minnesota Regional Legal Services | 182,182
MN-5 | Southern Minnesota Regional Legal Services | 1,131,734
NMN-1 | Anishinabe Legal Services, Inc. | 218,080
Mississippi:
MS-9 | North Mississippi Rural Legal Services Inc | 1,890,364
MS-10 | Mississippi Center for Legal Services | 2,814,569
NMS-1 | Mississippi Center for Legal Services | 75,857
MMS | Texas RioGrande Legal Aid | 51,968
Missouri:
MMO | Legal Aid of Western Missouri | 74,178
MO-3 | Legal Aid of Western Missouri | 1,616,969
MO-4 | Legal Services of Eastern Missouri | 1,785,203
MO-5 | Mid-Missouri Legal Services Corporation | 355,873
MO-7 | Legal Services of Southern Missouri | 1,540,500
Montana:
MMT | Montana Legal Services Assoc | 49,702
MT-1 | Montana Legal Services Assoc | 1,031,385
NMT-1 | Montana Legal Services Assoc | 145,302
Nebraska:
NE-4 | Legal Aid of Nebraska | 1,319,810
MNE | Legal Aid of Nebraska | 38,500
NNE-1 | Legal Aid of Nebraska | 30,164
Nevada:
NV-1 | Nevada Legal Services, Inc | 1,730,119
MNV | Nevada Legal Services, Inc | 2,291
NNV-1 | Nevada Legal Services, Inc | 121,344
New Hampshire:
NH-1 | Legal Advice & Referral Center | 652,375
New Jersey:
NJ-15 | Legal Services of Northwest Jersey | 357,709
NJ-16 | South Jersey Legal Services | 1,217,744
MNJ | South Jersey Legal Services | 109,873
NJ-18 | Northeast New Jersey Legal Services | 1,617,559
NJ-8 | Essex-Newark Legal Services Project, Inc | 989,887
NJ-12 | Ocean-Monmouth Legal Services | 606,303
NJ-17 | Central New Jersey Legal Services, Inc | 993,972
New Mexico:
NM-1 | DNA-Peoples Legal Services, Inc | 197,654
NNM-2 | DNA-Peoples Legal Services, Inc | 20,732
MNM | New Mexico Legal Aid | 79,527
NM-5 | New Mexico Legal Aid | 2,493,302
NNM-4 | New Mexico Legal Aid | 424,004
New York:
NY-21 | Legal Aid Society of Northeastern New York | 1,223,632
NY-24 | Neighborhood Legal Services, Inc | 1,224,289
NY-7 | Nassau/Suffolk Law Services | 1,266,562
NY-9 | Legal Services for New York City | 13,903,563
NY-23 | Legal Assistance of Western New York | 1,572,253
MNY | Legal Aid Society of Mid-New York, Inc | 252,047
NY-22 | Legal Aid Society of Mid-New York, Inc | 1,603,889
NY-20 | Legal Services of the Hudson Valley | 1,629,199
North Carolina:
MNC | Legal Aid of North Carolina | 488,024
NC-5 | Legal Aid of North Carolina | 7,586,477
NNC-1 | Legal Aid of North Carolina | 199,160
North Dakota:
MND | Southern Minnesota Regional Legal Services | 105,544
ND-3 | Legal Services of North Dakota Inc | 513,157
NND-3 | Legal Services of North Dakota Inc | 245,815
Ohio:
OH-20 | Community Legal Aid Services, Inc | 1,577,157
OH-18 | Legal Aid Soc of Cincinnati | 1,346,166
OH-21 | The Legal Aid Society of Cleveland | 1,969,985
OH-5 | The Legal Aid Society of Columbus | 1,170,122
OH-17 | Ohio State Legal Services | 1,621,634
MOH | Legal Services of Northwest Ohio | 114,699
OH-23 | Legal Services of Northwest Ohio | 2,330,547
Oklahoma:
NOK-1 | Oklahoma Indian Legal Services Inc | 747,182
MOK | Legal Aid Services of Oklahoma | 56,979
OK-3 | Legal Aid Services of Oklahoma | 4,080,514
Oregon:
OR-6 | Legal Aid Services of Oregon | 2,767,004
MOR | Legal Aid Services of Oregon | 507,211
NOR-1 | Legal Aid Services of Oregon | 168,457
Pennsylvania:
MPA | Philadelphia Legal Assistance | 150,917
PA-1 | Philadelphia Legal Assistance | 2,794,655
PA-5 | Laurel Legal Services, Inc | 694,311
PA-25 | MidPenn Legal Services, Inc | 2,002,667
PA-8 | Neighborhood Legal Services Association | 1,513,429
PA-24 | North Penn Legal Services, Inc | 1,636,990
PA-11 | Southwestern Pennsylvania Legal Aid Society | 504,432
PA-26 | Northwestern Legal Services | 660,520
PA-23 | Legal Aid of Southeastern Pennsylvania | 1,026,180
Puerto Rico:
MPR | Puerto Rico Legal Services Inc | 264,740
PR-1 | Puerto Rico Legal Services Inc | 15,154,970
PR-2 | Community Law Office, Inc | 314,750
Rhode Island:
RI-1 | Rhode Island Legal Services, Inc | 1,013,723
South Carolina:
MSC | The South Carolina Centers for Equal Justice | 180,110
SC-8 | The South Carolina Centers for Equal Justice | 4,434,391
South Dakota:
SD-2 | East River Legal Services | 368,002
MSD | Dakota Plains Legal Services, Inc | 3,614
NSD-1 | Dakota Plains Legal Services, Inc | 852,045
SD-4 | Dakota Plains Legal Services, Inc | 436,116
Tennessee:
TN-9 | Legal Aid of East Tennessee | 1,977,306
TN-4 | Memphis Area Legal Services | 1,294,449
TN-10 | LAS of Middle TN and the Cumberlands | 2,356,518
TN-7 | West Tennessee Legal Services Inc | 603,903
MTN | Texas RioGrande Legal Aid | 57,754
Texas:
TX-14 | Legal Aid of NorthWest Texas | 6,890,321
TX-13 | Lone Star Legal Aid | 8,733,194
MTX | Texas RioGrande Legal Aid | 1,264,810
NTX-1 | Texas RioGrande Legal Aid | 28,560
TX-15 | Texas RioGrande Legal Aid | 9,370,155
Utah:
UT-1 | Utah Legal Services, Inc | 1,676,062
MUT | Utah Legal Services, Inc | 61,763
NUT-1 | Utah Legal Services, Inc | 75,075
Vermont:
VT-1 | Legal Services Law Line of Vermont | 460,129
Virgin Islands:
VI-1 | Legal Services of Virgin Islands, Inc | 294,211
Virginia:
VA-15 | Southwest Virginia Legal Aid Society, Inc | 747,172
VA-16 | Legal Aid Society of Eastern Virginia, Inc | 1,290,769
MVA | Central Virginia Legal Aid Society, Inc | 143,614
VA-18 | Central Virginia Legal Aid Society, Inc | 916,930
VA-17 | Virginia Legal Aid Society, Inc | 777,788
VA-19 | Blue Ridge Legal Services, Inc | 646,951
VA-20 | Potomac Legal Aid Society | 1,007,423
Washington:
WA-1 | Northwest Justice Project | 4,493,130
MWA | Northwest Justice Project | 664,639
NWA-1 | Northwest Justice Project | 259,955
West Virginia:
MWV | Legal Aid of West Virginia, Inc | 33,286
WV-5 | Legal Aid of West Virginia, Inc | 2,626,531
Wisconsin:
MWI | Legal Action of Wisconsin, Inc | 82,904
WI-5 | Legal Action of Wisconsin, Inc | 2,978,587
WI-2 | Wisconsin Judicare, Inc | 841,908
NWI-1 | Wisconsin Judicare, Inc | 141,556
Wyoming:
MWY | Wyoming Legal Services | 11,328
NWY-1 | Wyoming Legal Services | 157,692
WY-4 | Wyoming Legal Services | 450,038

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2006.

Dated: October 4, 2005.
Michael A. Genz,
Director, Office of Program Performance, Legal Services Corporation.

[FR Doc. 05-20325 Filed 10-6-05; 8:45 am]

BILLING CODE 7050-01-P